ENVIRONMENTAL PROTECTION AGENCY

40 CFR Part 52

[EPA-R04-OAR-2013-0455; FRL-9900-12-Region 4]

Approval and Promulgation of Implementation Plans; Tennessee; Revisions to the Knox County Portion of the Tennessee State Implementation Plan

AGENCY: Environmental Protection Agency (EPA).

ACTION: Proposed rule.

SUMMARY: EPA is proposing to approve a revision to the Knox County portion of the Tennessee State Implementation Plan (SIP), submitted by the State of Tennessee, through the Tennessee Department of Environment and Conservation (TDEC) on December 13, 2012. The SIP submittal revises the definition of “Modification” in Knox County Air Quality Management Regulation Section 13 Definitions. TDEC considers Knox County's SIP revision to be as or more stringent than the Tennessee SIP requirements. EPA is approving the Knox County SIP revision because the State has demonstrated that it is consistent with the Clean Air Act (CAA or Act).

DATES: Written comments must be received on or before September 16, 2013.

ADDRESSES: Submit your comments, identified by Docket ID No. EPA-R04-OAR-2013-0455, by one of the following methods:

1. www.regulations.gov: Follow the on-line instructions for submitting comments.

2. Email: R4-RDS@epa.gov.

3. Fax: (404) 562-9019.

4. Mail: “EPA-R04-OAR-2013-0455,” Regulatory Development Section, Air Planning Branch, Air, Pesticides and Toxics Management Division, U.S. Environmental Protection Agency, Region 4, 61 Forsyth Street SW., Atlanta, Georgia 30303-8960.

5. Hand Delivery or Courier: Lynorae Benjamin, Regulatory Development Section, Air Planning Branch, Air, Pesticides and Toxics Management Division, U.S. Environmental Protection Agency, Region 4, 61 Forsyth Street SW., Atlanta, Georgia 30303-8960. Such deliveries are only accepted during the Regional Office's normal hours of operation. The Regional Office's official hours of business are Monday through Friday, 8:30 a.m. to 4:30 p.m., excluding Federal holidays.

Instructions: Direct your comments to Docket ID No. EPA-R04-OAR-2013-0455. EPA's policy is that all comments received will be included in the public docket without change and may be made available online at www.regulations.gov, including any personal information provided, unless the comment includes information claimed to be Confidential Business Information (CBI) or other information whose disclosure is restricted by statute. Do not submit through www.regulations.gov or email, information that you consider to be CBI or otherwise protected. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at the Regulatory Development Section, Air Planning Branch, Air, Pesticides and Toxics Management Division, U.S. Environmental Protection Agency, Region 4, 61 Forsyth Street SW., Atlanta, Georgia 30303-8960. EPA requests that if at all possible, you contact the person listed in the FOR FURTHER INFORMATION CONTACT section to schedule your inspection. The Regional Office's official hours of business are Monday through Friday, 8:30 a.m. to 4:30 p.m., excluding Federal holidays.

FOR FURTHER INFORMATION CONTACT: Sean Lakeman, Regulatory Development Section, Air Planning Branch, Air, Pesticides and Toxics Management Division, U.S. Environmental Protection Agency, Region 4, 61 Forsyth Street SW., Atlanta, Georgia 30303-8960. The telephone number is (404) 562-9043. Mr. Lakeman can be reached via electronic mail at lakeman.sean@epa.gov.

SUPPLEMENTARY INFORMATION:

I. Analysis of Knox County's Submittals

II. Proposed Action

III. Statutory and Executive Order Reviews

I. Analysis of Knox County's Submittals

On December 13, 2012, TDEC submitted a SIP revision to EPA for approval into the Knox County portion of the Tennessee SIP. Specifically, the December 13, 2012, SIP revises the definition of “Modification” in Knox County Regulation, section 13.0—Definitions. The additions of subparagraphs E and F to the definition of “Modification” allows the local permit program authority to provide adequate, streamlined, and reasonable procedures for expeditiously processing permit changes by excluding certain modifications from construction permitting. The addition of subparagraph E provides that certain modifications (physical/method of operation) at major sources that are not considered Title I modifications do not require construction permits. Specifically, modifications at such sources that qualify: (1) As Title V operational flexibility changes (CAA section 502(b)(10)); (2) as minor permit modifications; or (3) for group processing of minor modifications will not require construction permits. See 40 CFR 70.7 for more detailed information on permit modifications.

The addition at subparagraph F establishes criteria for which a physical change or change in the method of operation for a minor source does not need a construction permit. These criteria include: (1) The change is not subject to the requirements of the Knox County Title V program (at section 25.70), Prevention of Significant Deterioration (PSD) at Section 45.0 and new source review (NSR) permitting regulations at Section 41.0¹; (2) the emissions from the modification does not exceed the allowable emissions established in an existing permit; or (3) the change does not result in emissions from a new contaminant or pollutant.

¹ EPA notes that the language at subparagraph F that states “The change is not subject to requirements of a Title V Operating Permit (Section 25.70), a New Source Review Permit (Section 41.0), or a Prevention of Significant Deterioration Permit (Section 45.0);” refers to the actual Knox County title V, PSD and NSR permitting regulations and not to an actual permit, as clarified in a email from Knox County on June 7, 2013.

II. Proposed Action

EPA is proposing to approve the aforementioned change to Knox County portion of the Tennessee SIP, because it is consistent with EPA policy and the CAA.

III. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposal does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Intergovernmental relations, Nitrogen dioxide, Particulate matter, Reporting and recordkeeping requirements and Sulfur oxides.

Authority: 42 U.S.C. 7401 et seq.

Dated: August 7, 2013.
Beverly H. Banister,
Acting Regional Administrator, Region 4.

[FR Doc. 2013-20022 Filed 8-15-13; 8:45 am]

BILLING CODE 6560-50-P